DEPARTMENT OF HOMELAND SECURITY

U.S. Customs and Border Protection

[Docket No. USCBP-2019-0013]

Commercial Customs Operations Advisory Committee (COAC)

AGENCY: U.S. Customs and Border Protection (CBP), Department of Homeland Security (DHS).

ACTION: Committee Management; Notice of Federal Advisory Committee Meeting.

SUMMARY: The Commercial Customs Operations Advisory Committee (COAC) will hold its quarterly meeting on Thursday, May 30, 2019, in Laredo, Texas. The meeting will be open to the public to attend either in person or via webinar.

DATES: The COAC will meet on Thursday, May 30, 2019, from 1:00 p.m. to 4:00 p.m. CDT (2:00 p.m.-5:00 p.m. EDT). Please note that the meeting may close early if the committee has completed its business.

ADDRESSES: The meeting will be held at the Laredo College, Falcon Bank Executive Conference Room, 1 West End Washington Street, Laredo, Texas 78040. For information on facilities or services for individuals with disabilities or to request special assistance at the meeting, contact Ms. Florence Constant-Gibson, Office of Trade Relations, U.S. Customs & Border Protection, at (202) 344-1440 as soon as possible.

Pre-Registration: Meeting participants may attend either in person or via webinar after pre-registering using one of the methods indicated below:

For members of the public who plan to attend the meeting in person, please register by 5:00 p.m. EDT May 29, 2019, either: online at https://teregistration.cbp.gov/index.asp?w=154; by email to tradeevents@dhs.gov; or by fax to (202) 325-4290. You must register prior to the meeting in order to attend the meeting in person.

For CBP personnel who plan to attend in person, please register online by 5:00 p.m. EDT May 29, 2019, at https://teregistration.cbp.gov/index.asp?w=153.

For members of the public who plan to participate via webinar, please register online at https://teregistration.cbp.gov/index.asp?w=155 by 5:00 p.m. EDT on May 29, 2019.

Please feel free to share this information with other interested members of your organization or association.

Members of the public who are pre-registered to attend and later need to cancel, please do so by May 29, 2019, utilizing the following links: https://teregistration.cbp.gov/cancel.asp?w=154 to cancel an in-person registration; or use https://teregistration.cbp.gov/cancel.asp?w=155 to cancel a webinar registration. For CBP personnel who are registered to attend in person and later need to cancel, please do so by utilizing the following link: https://teregistration.cbp.gov/cancel.asp?w=153.

To facilitate public participation, we are inviting public comment on the issues the committee will consider prior to the formulation of recommendations as listed in the Agenda section below.

Comments must be submitted in writing no later than May 29, 2019, and must be identified by Docket No. USCBP-2019-0013, and may be submitted by one (1) of the following methods:

• Federal eRulemaking Portal: http://www.regulations.gov. Follow the instructions for submitting comments.

• Email: tradeevents@dhs.gov. Include the docket number in the subject line of the message.

• Fax: (202) 325-4290, Attention Florence Constant-Gibson.

• Mail: Ms. Florence Constant-Gibson, Office of Trade Relations, U.S. Customs and Border Protection, 1300 Pennsylvania Avenue NW, Room 3.5A, Washington, DC 20229.

Instructions: All submissions received must include the words “Department of Homeland Security” and the docket number (USCBP-2019-0013) for this action. Comments received will be posted without alteration at http://www.regulations.gov. Please do not submit personal information to this docket.

Docket: For access to the docket or to read background documents or comments, go to http://www.regulations.gov and search for Docket Number USCBP-2019-0013. To submit a comment, click the “Comment Now!” button located on the top right-hand side of the docket page.

There will be multiple public comment periods held during the meeting on May 30, 2019. Speakers are requested to limit their comments to two (2) minutes or less to facilitate greater participation. Contact the individual listed below to register as a speaker. Please note that the public comment period for speakers may end before the time indicated on the schedule that is posted on the CBP web page, http://www.cbp.gov/trade/stakeholder-engagement/coac.

FOR FURTHER INFORMATION CONTACT: Ms. Florence Constant-Gibson, Office of Trade Relations, U.S. Customs and Border Protection, 1300 Pennsylvania Avenue NW, Room 3.5A, Washington, DC 20229; telephone (202) 344-1440; facsimile (202) 325-4290; or Mr. Bradley Hayes, Executive Director and Designated Federal Officer at (202) 344-1440.

SUPPLEMENTARY INFORMATION: Notice of this meeting is given under the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Agenda

The COAC will hear from the current subcommittees on the topics listed below and then will review, deliberate, provide observations, and formulate recommendations on how to proceed:

1. The Next Generation Facilitation Subcommittee will provide an update on the status of the Emerging Technologies Working Group's use of blockchain to address challenges faced by both the government and the trade in today's complex commercial environment. The discussion will highlight the Intellectual Property Rights Blockchain Proof of Concept Project as well as discuss other upcoming projects, including a day-long event that will solicit additional ideas for blockchain concepts that could be tested in the future. Finally, the subcommittee will provide recommendations regarding blockchain proofs of concept.

2. The Secure Trade Lanes Subcommittee will present a summary of the activities of the Trusted Trader Working Group including results of the May 8th and 9th face-to-face meeting with Trusted Trader Pilot participants. The subcommittee will deliver an update on the progress of the In-Bond Working Group's recommendation for the enhancement of the CBP In-bond program, the development of in-bond regulations, and enhancements to existing in-bond guidelines. The subcommittee will deliver an update on the launch of the new Export Modernization Working Group which will be developing recommendations for CBP's expansion of current export pilots, regulatory changes that will mandate the use of electronic export manifest, and the expansion of post departure filing to new participants.

3. The Intelligent Enforcement Subcommittee will report on the work that has been conducted by the Intellectual Property Rights, Anti-Dumping and Countervailing Duty, and Bond Working Groups.

4. The Rapid Response Subcomittee will provide an update on its collaboration with CBP on furthering the strategic approach to the 21st Century Customs Framework.

Meeting materials will be available by May 28, 2019, at: http://www.cbp.gov/trade/stakeholder-engagement/coac/coac-public-meetings.

Dated: May 9, 2019.
Bradley F. Hayes,
Executive Director, Office of Trade Relations.

[FR Doc. 2019-09899 Filed 5-13-19; 8:45 am]

BILLING CODE 9111-14-P